DEPARTMENT OF THE INTERIOR

National Park Service

[N6698; NPS-WASO-NAGPRA-NPS0041444; PPWOCRADN0-PCU00RP14.R50000]

Notice of Inventory Completion: Allen County-Fort Wayne Historical Society, Fort Wayne, IN

AGENCY: National Park Service, Interior.

ACTION: Notice.

SUMMARY: In accordance with the Native American Graves Protection and Repatriation Act (NAGPRA), the Allen County-Fort Wayne Historical Society has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Todd Maxwell Pelfery, Executive Director, Allen County-Fort Wayne Historical Society, 302 E Berry Street, Fort Wayne, IN 46802, email tpelfrey@fwhistorycenter.org.

SUPPLEMENTARY INFORMATION: This notice is published as part of the National Park Service's administrative responsibilities under NAGPRA. The determinations in this notice are the sole responsibility of the Allen County-Fort Wayne Historical Society and additional information on the determinations in this notice, including the results of consultation, can be found in its inventory or related records. The National Park Service is not responsible for the determinations in this notice.

Abstract of Information Available

Human remains representing, at least, two individuals have been identified. The 172 associated funerary objects are potsherds, projectile points, stone tools, and blades. The remains of the first reasonably culturally identifiable individual were found in Milan Township, Allen County, Indiana, in 1936 as part of county-wide archaeological survey. There are at 4 mandible fragments, and other smaller fragments likely belong to the same mandible, and three human teeth are attributed to this one individual. Forty-four of the associated funerary objects are attributed to the same excavation site as the human remains. The remains of the second reasonably culturally identifiable individual were found in St. Joseph Township, Allen County, Indiana, in 1936 as part of the same county-wide archaeological survey. There is one grooved bone fragment that is believed to belong to one individual. There are 128 associated funerary objects that are attributed to the same excavation site as the human remains of the second individual. The human remains of these two individuals and the associated funerary objects arrived at the Allen County-Fort Wayne Historical Society in1972 and were originally part of the 1936 Archaeological Survey of Allen County, led by Professor Glen A. Black. Professor Black was most prominently known for his excavation of burial mounds.

Cultural Affiliation

Based on the information available and the results of consultation, cultural affiliation is reasonably identified by the geographical location or acquisition history of the human remains and associated funerary objects described in this notice.

Determinations

The Allen County-Fort Wayne Historical Society has determined that:

• The human remains described in this notice represent the physical remains of two individuals of Native American ancestry.

• The 172 objects described in this notice are reasonably believed to have been placed intentionally with or near individual human remains at the time of death or later as part of the death rite or ceremony.

• There is a connection between the human remains and associated funerary objects described in this notice and the Miami Tribe of Oklahoma and the Shawnee Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, the Allen County-Fort Wayne Historical Society must determine the most appropriate requestor prior to repatriation. Requests for joint repatriation of the human remains and associated funerary objects are considered a single request and not competing requests. The Allen County-Fort Wayne Historical Society is responsible for sending a copy of this notice to the Indian Tribes and Native Hawaiian organizations identified in this notice and any other consulting parties.

Authority: Native American Graves Protection and Repatriation Act, 25 U.S.C. 3003, and the implementing regulations, 43 CFR 10.10.

Dated: November 25, 2025.
Melanie O'Brien,
Manager, National NAGPRA Program.

[FR Doc. 2025-23054 Filed 12-16-25; 8:45 am]

BILLING CODE 4312-52-P